DEPARTMENT OF LABOR

Employment and Training Administration

[TA-W-59,385]

G.E. Lighting; Willoughby Quartz Plant; Willoughby, OH; Notice of Termination of Investigation

Pursuant to Section 221 of the Trade Act of 1974, as amended, an investigation was initiated on May 12, 2006, in response to a worker petition filed on behalf of workers at G.E. Lighting, Willoughby Quartz Plant, Willoughby, Ohio.

The petitioning group of workers is covered by an earlier petition filed on April 28, 2006 (TA-W-59,292) that is the subject of an ongoing investigation for which a determination has not yet been issued. Further investigation in this case would duplicate efforts and serve no purpose; therefore the investigation under this petition has been terminated.

Signed at Washington, DC this 12th day of May 2006.
Elliott S. Kushner,
Certifying Officer, Division of Trade Adjustment Assistance.

[FR Doc. E6-8063 Filed 5-24-06; 8:45 am]

BILLING CODE 4510-30-P